FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Jet Freight International Co., Ltd., 1915 S. San Pedro St., Los Angeles, CA 90011. Officers: Chia Yu Pan, C.E.O. (Qualifying Individual), Liling Tseng Pan, Secretary.

Wings Logistics USA Corp., 153-04 Rockaway Blvd., Jamaica, NY 11434. Officer: Oscar Marc Schlossberg, President (Qualifying Individual).

H & T Logistics Corporation, 244 Fifth Avenue, 2nd Floor, #2259, New York, NY 10001-7604. Officers: Jesse R. Waugh, President (Qualifying Individual), Richard Rivera, Managing Director.

Besco Shippers Inc., 1543 Hook Road, Bld. A, Folcroft, PA 19032. Officer: Ludlow A. Harding, President (Qualifying Individual).

Elite Shipping, Inc., 8455 NW., 74th Street, Miami, FL 33166. Officers: Ivan Israel Chavarria, Vice President (Qualifying Individual), David Cardoao, President.

Aliana Express, Inc., 11440 Yearling Circle, Cerritos, CA 90703. Officer: James Sungpyo Kim, C.E.O./C.F.O. (Qualifying Individual).

Canaan Int'l Freight, Inc., 179-02 150th Avenue, Jamaica, NY 11434. Officer: Sara Kwon, President (Qualifying Individual).

Trans Gate International, LLC., 155-06 S. Conduit Avenue, Suite #202, Jamaica, NY 11434. Officers: Ji Hoon Cho, Managing Member (Qualifying Individual), So-Young Lee, Managing Member.

Non-Vessel Operating Common Carrier and Ocean Freight Forwarder Transportation Intermediary Applicants

Met Logistics, Inc., 333 Pierce Road, Suite 150, Itasca, IL 60143. Officers: Timothy Campbell, President (Qualifying Individual), Taichuan Chen, Director.

JDB International Inc., Gava International Freight Consolidators (USA), Inc., 2110 Estes Avenue, Elk Grove Village, IL 60007. Officers: Dale Jordan, Director-Operations (Qualifying Individual), Roberto Baldi, Director-Sales.

EFI Logistics, Inc., 333 Market Street, Suite 250, San Francisco, CA 94105. Officers: David V. Enberg, Secretary/Treasurer (Qualifying Individual), James T. Fitzgerald, President.

Ocean Freight Forwarder—Ocean Transportation Intermediary Applicants

Sembcorp Logistics (USA) Inc., 815-817 West Arbor Vitae Street, Inglewood, CA 90301. Officers: Philip KK Chan, Sen. Vice President (Qualifying Individual), Fiona Chan Sioh Noi, President.

Air Cargo Transport Services, Inc., dba Priority Worldwide Services, 504 McCormick Drive, Suite H, Glen Burnie, MD 21061. Officers: Jinna Peters, Secretary (Qualifying Individual), Marc Tohir, Vice President.

I.C.A.T. Logistics, Inc., 514 Progressive Drive, Suite G, Linthicum, MD 21090. Officers: Joanne Keita Johnson, Director (Qualifying Individual), Richard L. Campbell, Jr., President.

Dated: February 6, 2004.
Bryant L. VanBrakle,
Secretary.

[FR Doc. 04-3001 Filed 2-10-04; 8:45 am]

BILLING CODE 6730-01-P